DEPARTMENT OF THE INTERIOR

Fish and Wildlife Service

[FWS-R4-R-2009-N187; 40136-1265-0000-S3]

Banks Lake National Wildlife Refuge, Lanier County, GA

AGENCY: Fish and Wildlife Service, Interior.

ACTION: Notice of availability: final comprehensive conservation plan and finding of no significant impact.

SUMMARY: We, the Fish and Wildlife Service (Service), announce the availability of our final comprehensive conservation plan (CCP) and finding of no significant impact (FONSI) for the environmental assessment for Banks Lake National Wildlife Refuge (NWR). In the final CCP, we describe how we will manage this refuge for the next 15 years.

ADDRESSES: You may obtain a copy of the CCP by writing to: Ms. Laura Housh, Regional Planner, Okefenokee National Wildlife Refuge, 2700 Suwannee Canal Road, Folkston, GA 31537. You may also access and download the document from the Service's Web site: http://southeast.fws.gov/planning.

FOR FURTHER INFORMATION CONTACT: Ms. Laura Housh; telephone: 912/496-7366, Extension 244; E-mail: laura_housh@fws.gov.

SUPPLEMENTARY INFORMATION:

Introduction

With this notice, we finalize the CCP process for Banks Lake NWR. We started this process through a notice in the Federal Register on December 6, 2007 (72 FR 68892). For more about the process, see that notice.

Established in 1985, Banks Lake NWR is located near the city of Lakeland, Lanier County, Georgia. The refuge lies in the Grand Bay-Banks Lake (GBBL) ecosystem, an area that comprises the second-largest freshwater wetland system in Georgia. The 3,559-acre refuge includes a diversity of habitats consisting of open water, cypress-gum swamp, herbaceous marsh, scrub/shrub, and evergreen forested wetlands. Banks Lake is a prominent feature of the refuge, with many anglers seeking bass and other fish. Other recreational opportunities include wildlife observation and wildlife photography. The refuge hosts several listed species, migratory birds, and a variety of other wildlife, many of which are aquatic.

We announce our decision and the availability of the final CCP and FONSI for Banks Lake NWR in accordance with the National Environmental Policy Act (NEPA) [40 CFR 1506.6(b)] requirements. We completed a thorough analysis of impacts on the human environment, which we included in the draft comprehensive conservation plan and environmental assessment (Draft CCP/EA). The CCP will guide us in managing and administering Banks Lake NWR for the next 15 years.

The CCP will guide us in managing and administering Banks Lake National Wildlife Refuge for the next 15 years. Alternative B, as we described in the final CCP, is the foundation for the CCP.

The compatibility determinations for fishing; wildlife observation; wildlife photography; environmental education and interpretation; research studies and scientific collection; special events that advance outdoor recreation or conservation; commercial guided services for wildlife observation, photography, and interpretation; guided sport fishing; vegetation control on refuge shoreline by adjacent landowners; and fishing tournaments are available in the CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

Approximately 50 copies of the Draft CCP/EA were made available for a 30-day public review period as announced in the Federal Register on June 4, 2009 (74 FR 26883). Approximately 25 comments were received from local citizens and the State.

Selected Alternative

After considering the comments we received, we have selected Alternative B for implementation. The primary focus under Alternative B will be to expand management of all refuge resources. Monitoring efforts for listed species, general fish and wildlife, habitats, and water quality will be increased in order to gain a better understanding of their status and trends. The refuge boundary will be surveyed. We will conduct additional surveys to increase the understanding and protection of cultural resources. Public use opportunities will be increased.

Alternative B is considered to be the most effective for meeting the purposes of the refuge by protecting rare, threatened, and endangered species; maintaining biodiversity; and improving visitor services.

Authority

This notice is published under the authority of the National Wildlife Refuge System Improvement Act of 1997, Public Law 105-57.

Dated: September 30, 2009.
Jacquelyn B. Parrish,
Acting Regional Director.

[FR Doc. 2010-1575 Filed 1-26-10; 8:45 am]

BILLING CODE 4310-55-P